POSTAL SERVICE

39 CFR Part 111

Permissible Barcode Symbology for Parcels Eligible for the Barcode Discount

AGENCY: Postal Service.

ACTION: Withdrawal of final rule.

SUMMARY: We are withdrawing the amendment to the Domestic Mail Manual in the final rule published in the Federal Register on May 6, 2004 [69 FR 25321], that announced a new requirement for Package Services parcels.

EFFECTIVE DATE: May 12, 2004.

FOR FURTHER INFORMATION CONTACT: Obataiye B. Akinwole at (703) 292-3643.

SUPPLEMENTARY INFORMATION: The Postal Service will issue a further document regarding these mailing standards.

Neva R. Watson,
Attorney, Legislative.

[FR Doc. 04-10848 Filed 5-10-04; 12:33 pm]

BILLING CODE 7710-12-P